DEPARTMENT OF COMMERCE

International Trade Administration

Environmental Technologies Trade Advisory Committee (ETTAC)

AGENCY: International Trade Administration, U.S. Department of Commerce.

ACTION: Notice of open meeting.

Date: September 16, 2005.

Time: 8:30 a.m. to 4 p.m.

Place: Department of Commerce, 14th and Constitution NW., Washington DC 20230, Room 4830.

Summary: The Environmental Technologies Trade Advisory Committee (ETTAC) will hold a plenary meeting on September 16, 2005, at the U.S. Department of Commerce, 14th Street and Constitution Avenue, NW., Washington, DC 20230, in Room 4830. The ETTAC will discuss global climate change mitigation initiatives, the European Union's electronic and other waste initiatives, updated negotiations in the World Trade Organization's environmental goods and services trade liberalization, and the Export-Import Bank's environmental exports program. The afternoon session will include a discussion of the U.S. EPA's Resource Conservation Challenge, the Environmental Technologies Verification (ETV) Program and an overview of the U.S. International Trade Commission's environmental services sector market analysis. The meeting is open to the public and time will be permitted for public comment.

Written comments concerning ETTAC affairs are welcome anytime before or after the meeting. Minutes will be available within 30 days of this meeting.

The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994. It was most recently rechartered until May 30, 2006.

For further information phone Joseph Ayoub, Office of Energy and Environmental Technologies Industries (OEEI), International Trade Administration, U.S. Department of Commerce at (202) 482-5225. This meeting is physically accessible to people with disabilities. Requests for sign language interpretation or other auxiliary aids should be directed to OEEI at (202) 482-5225.

Dated: August 10, 2005.
Carlos F. Montoulieu,
Director, Office of Energy and Environmental Industries.

[FR Doc. E5-4487 Filed 8-16-05; 8:45 am]

BILLING CODE 3510-DR-P